DEPARTMENT OF TRANSPORTATION

National Highway Traffic Safety Administration

Discretionary Grants To Support a Teen Safe Driving Initiative

AGENCY: National Highway Traffic Safety Administration (NHTSA), DOT.

ACTION: Announcement of discretionary grants to increase seat belt use and decrease impaired driving and speeding among the teen population.

SUMMARY: The National Highway Traffic Safety Administration (NHTSA) announces a discretionary grant program to provide funding to four communities to support the demonstration of teen safe driving initiatives. This notice solicits pre-applications from public and private, non-profit and for-profit organizations, state and local governments and their agencies. Interested applicants must submit a pre-application package as further described in the Pre-Application Procedures section of this notice. The pre-applications will be evaluated to identify those that warrant further development. Only selected pre-applicants will be invited to submit a full application. For these four demonstration programs, NHTSA desires a mix of rural, suburban and urban areas, as well as diverse populations.

DATES: Pre-applications must be received by the office designated below on or before 2 p.m. on Tuesday, July 3, 2001.

ADDRESSES: Applications must be submitted to the National Highway Traffic Safety Administration, Office of Contracts and Procurement (NAD-30), Attn: Henrietta R. Mosley, 400 7th Street, SW., Room 5301, Washington, DC 20590. All applications submitted must include a reference to NHTSA Grant Program No. DTNH22-01-G-05218.

FURTHER INFORMATION CONTACT: General administrative questions may be directed to Henrietta R. Mosley, Office of Contracts and Procurement by e-mail at hmosley@nhtsa.dot.gov, or by phone at (202) 366-9570. Programmatic questions relating to this grant program should be directed to Ed Pacchetti, Occupant Protection Division (NTS-12), NHTSA, 400 7th Street, SW., Room 5118, Washington, DC 20590, by e-mail at epacchetti@nhtsa.dot.gov, or by phone at (202) 366-2708. Interested applicants are advised that no separate application package exists beyond the contents of this announcement.

SUPPLEMENTARY INFORMATION:

Background

Motor vehicle crashes are the leading cause of death for youth (youth and teen will be used interchangeably to describe persons 15-20 years old throughout the document). In 1999, 64 percent of young people killed or injured were not wearing seat belts. In addition, alcohol contributes to non-belt use. Seventy-three percent of young drivers who had been drinking and were killed were not wearing seat belts. The combination of non-belt use, impaired driving and speed is a deadly combination for all drivers, but especially America's teens. In 1999, a total of 8,175 15 to 20-year-old drivers were involved in crashes in which there was a fatality. In these crashes, 3,561 of the drivers were killed and an additional 362,000 were injured. Compared with fatality rates for drivers 25 through 69 years old, the rate for teenage drivers (16 to 19 years old) is about four times greater (Traffic Safety Facts, NHTSA, 1999).

The magnitude of risky teen driver behaviors is reflected in an annual cost to society of $32 billion. The factors that contribute to the startling fatality and injury statistics for teens are lack of driving experience, immaturity, high risk-taking behavior, and the feeling of invincibility.

There are three primary strategies for reducing the incidence of motor vehicle-related deaths and injuries for this age group. The first strategy is to increase the use of seat belts. Seat belts save lives, yet nationwide, only 71 percent of Americans take advantage of these life-saving devices. For those at age 18, seat belt use is far below the national average. For those in the 16-20 year old age group, 64 percent of those killed or injured in traffic crashes were not wearing seat belts.

The second strategy is to decrease the number of youth who drive impaired. An estimated 2,210 (35.8 percent) of youth ages 15-20 died in alcohol-related crashes. The severity of a crash increases with alcohol/drug involvement. In 1998, 2 percent of the 15 to 20-year old drivers involved in property damage-only crashes had been drinking, 3 percent of those crashes resulting in injury had been drinking, and 21 percent of those involved in fatal crashes had been drinking.

The third strategy for reducing motor vehicle fatalities and injuries for youth is reducing the speed at which they drive. Approximately 30 percent of 15-20 year old drivers involved in fatal crashes were speeding. Speeding reduces a driver's ability to steer safely around curves or objects in the roadway, extends the distance necessary to stop a vehicle, and increases the distance a vehicle travels while the driver reacts to a dangerous situation. In addition, speeding causes more serious damage and injury when crashes occur.

To address the high fatality rate among youth 15-20 years of age, NHTSA is announcing the availability of funds to develop and enhance community-based programs. The aim of these demonstration grants is to increase seat belt use, and reduce speeding, underage drinking and impaired driving among the 15-20 year old youth population.

Objective of This Grant Program

The objective of this grant program is to increase seat belt use and reduce the incidence of impaired driving, underage drinking and speeding among youth populations. This grant will support the implementation of new programs that build upon strategies known to be effective in accomplishing these goals.

Examples of Effective Strategies

NHTSA recognizes that highly visible enforcement is an important foundation upon which any effective program must be based. The agency also acknowledges the need to develop original and resourceful ways to get the enforcement message out to teens. An extensive review of innovative programs targeting teens show a relationship between raising traffic safety awareness among teens and safer driving habits and occupant protection behaviors.

A primary way to promote awareness of unsafe driving habits is through enforcement. Recognizing this, to be considered for award of funds under this program, the central component of the applicant's project plan must be strict enforcement of existing laws. The enforcement component must be supported by a public information/education component geared to promoting awareness of the enforcement activities, as well as emphasizing the need for enforcement to generate positive traffic safety habits. The education campaign must utilize members of youth organizations, because we know that some of the most effective education for this age group is delivered by their peers. The education campaign needs to empower youth to be part of the process, not just a target for enforcement. Youth can be utilized to support enforcement efforts that will save other youth from death or injury.

An application may propose to implement its enforcement efforts in a number of ways. For example, in the metro Atlanta area, tying data to increased enforcement has been the key. The Atlanta Journal Constitution reports that it takes deaths to get people's attention when it comes to driving. In the fall of 2000, they reported that 71 metro Atlantans age 15 through 20 were lost in traffic crashes B including 36 drivers B in just the first eight months of 2000. Data like that put teen driving back on the public agenda. Publicizing data like this, as well as publicizing and funding an increased enforcement effort, can be a winning combination for a community that wants to have a positive effect on teen driving safety.

To support and publicize the enforcement effort, a community based team made up of members representing all disciplines of the community, including traffic safety advocates, employers, prosecutors and judges, educators, business and health care professionals, must be formed if one doesn't already exist. The message of teen driving safety cannot be repeated too often, by too many people. Driving safely will only become a habit for teens when they are fully aware of the consequences of their risk taking behavior. These consequences should be clearly defined as getting a ticket, or being involved in a traffic crash that could result in injury or death. An aggressive community-wide media campaign that emphasizes the enforcement message will help to get this point across to our youngest drivers.

Evaluation of Programs

Meaningful and timely evaluations of each recipient's program, management, and associated resources are very important to improving programs in subsequent years. Grantees and NHTSA need to conduct baseline seat belt use surveys before, during and after the program. In addition, data needs to be collected on the number of citations written to teens for traffic safety violations and the number of enforcement activities. A final evaluation measure will be teen fatalities and injuries that involve impaired driving and/or speed and non-belt use at the beginning of the program, and after the program has been completed. The observed difference in seat belt use, and the difference in the number of fatalities caused by non-belt use, impaired driving and speeding will provide additional measures of program effectiveness.

NHTSA Involvement

In support of the activities undertaken by this grant program, NHTSA will:

1. Provide a Contracting Officer's Technical Representative (COTR) to coordinate activities between the Grantee and NHTSA during grant performance, and to serve as a liaison between NHTSA Headquarters, NHTSA Regional offices and the grantee.

2. Provide information and technical assistance from government sources within available resources and as determined appropriate by the COTR.

Availability of Funds and Period of Support

A total of $500,000 will be provided in FY2001 and $500,000 will be provided in FY2002, subject to available appropriations, to fund a total of four communities at $250,000 each. Each program will be split-funded for an amount of $125,000 per 12-month period. The period of support for a grant under this program will be a total of 24 months, with 21 months of planning and implementation, and three months for evaluation and preparation of the final report. NHTSA estimates that the award of the four FY2001 Occupant Protection, Impaired Driving, and Speed Teen Initiative Grants will occur by September 30, 2001.

Allowable Uses of Federal Funds

Allowable uses of Federal funds shall be governed by the applicable federal cost principles. Funds provided under this grant program shall be used to carry out the activities described in the Applicant's plan for which the grant is awarded. At least 75 percent must be spent on enforcement activities which may include salary for a coordinator and publicizing enforcement activities and, of that 75 percent, a maximum of 15 percent of funds may be used for the purchase of equipment to assist law enforcement agencies in carrying out enforcement activities.

Because the primary component of the grant is enforcement, the applicant must be able to provide financial support to law enforcement agencies that have jurisdiction within the community or county. This would include local police, sheriff's offices, and State police/highway patrol that have jurisdiction within the geographical area targeted under the scope of the grant. If training is provided to law enforcement personnel for conducting Standardized Field Sobriety Tests or Drug Recognition Expert training, the NHTSA/International Association of Chiefs of Police (IACP) curricula must be used.

Eligibility Requirements

Public and private entities, non-profit and for-profit organizations, state and local governments and their agencies may apply. The applicant must be in a state that has a zero tolerance law. In addition, the community must have a total population of between 100,000 and 250,000 people based upon Census 2000 data of the U.S. Census Bureau.

Pre-Application Procedures

Each applicant must submit one original and two copies of the pre-application package to: NHTSA, Office of Contracts and Procurement (NAD-30), Attn: Henrietta R. Mosley, 400 7th Street, SW., Room 5301, Washington, DC 20590. An additional three copies will facilitate the review process, but are not required. The pre-application may be single spaced, must be typed on one side of the page only, and must include a reference to NHTSA Grant Program No. DTNH22-01-G-05218. Only complete pre-application packages received on or before 2 p.m. on Tuesday, July 3, 2001 will be considered.

Pre-Application Package Contents

1. The pre-application package must be submitted with the completed cover page of the Application for Federal Assistance (Standard Form 424—Rev. 7-97). The Standard Form 424 can be found on the OMB website at http://www.whitehouse.gov/omb/grants/index/html.

2. The pre-application package must also include the following:

(a) A copy of the applicable zero tolerance law and implied consent statute for the state, as well as an explanation of their compatibility in enforcing the laws.

(b) A maximum 4-page project description that includes: a brief introduction of the community demographics that identifies the total population and the incidence of youth fatalities and injuries as a result of traffic crashes, as well as any past enforcement or educational programs that have targeted teens; and a description of the proposed community enforcement project designed to increase seat belt use, and decrease impaired driving and speeding among the teen population.

(c) A 1-page summary that identifies the availability and location of the following data for the target community of youth at the outset and throughout the performance of the project: Motor vehicle fatalities and injuries; the incidence of alcohol use, seat-belt non-use and speeding in motor vehicle crashes; and citation data for non-use of seat belts, zero tolerance laws, speeding, underage drinking and impaired driving. It is not necessary to provide these data for the pre-application, only to ensure its availability.

(d) A 1-page staffing description that identifies the project management capability and the various personnel disciplines proposed.

(e) A 1-page budget summary. At least 75 percent must be spent on enforcement activities which may include salary for a coordinator and publicizing enforcement activities and, of that 75 percent, a maximum of 15 percent of funds may be used for the purchase of equipment to assist law enforcement agencies in carrying out enforcement activities. The budget summary must identify the level of effort proposed for the professional, technical and support staff, including fringe benefits and other labor overhead; any proposed equipment, training, or travel; and proposed other direct and indirect costs.

Project Review Procedures and Criteria

Pre-applications, once received, will be screened to ensure that they meet the eligibility requirements. Pre-applications meeting the requirements will be reviewed by a panel using the criteria outlined below.

1. Project Approach: The overall soundness and feasibility of the community enforcement project and the potential effectiveness of the activities described for increasing seat belt use, and decreasing impaired driving, speeding and underage drinking among the target youth population. The extent to which the project describes a significant combined enforcement component that addresses non-use of seat belts, and the incidence of impaired driving, speeding and violating the zero tolerance law.

2. Data Availability: Documentation supporting the current and continued availability of the identified data which must be collected to evaluate and measure the effectiveness of the project.

3. Organizational Resources: The organizational resources demonstrate effective project management capability and personnel expertise to successfully perform the activities that will result in increased belt use, and decreased speeding and impaired driving among the teen population. The relative level of effort for the professional, technical, and support staff as identified in the budget summary will be considered.

Each pre-application will be reviewed and rated in accordance with the evaluation criteria outlined above. Those applicants whose pre-applications are not selected will be informed in writing. Those applicants whose pre-applications are selected for further development will also be notified in writing and a date for submitting full applications will be set. More than four pre-applications will be selected for further development. During this second phase, full application proposals will be reviewed by panel members who were involved in the review of the pre-applications. Negotiations will then take place in connection with the full application. It is anticipated that awards will be made by September 30, 2001.

Final Application Procedures

If a pre-application is chosen for the further development, the applicant must submit one original and two copies of the full application package to: NHTSA, Office of Contracts and Procurement (NAD-30), Attn: Henrietta Mosley, 400 7th Street, SW., Room 5301, Washington, DC 20590. An additional three copies will facilitate the review process, but are not required. Applications must be typed on one side of the page only. Applications must include a reference to NHTSA Grant Program No. DTNH22-01-G-05218. Only complete application packages will be considered.

Final Application Contents

The applicant must include in its application all of the contents listed below:

1. The application package must be submitted with OMB Standard Form 424, (Rev. 7-97, including 424A and 424B), Application for Federal Assistance, with the required information provided and the certified assurances included. While the Form 424-A deals with budget information, and section B identifies Budget Categories, the available space does not permit a level of detail which is sufficient to provide for a meaningful evaluation of the proposed costs. A supplemental sheet should be provided which presents a detailed breakdown of the proposed total project effort, including evaluation and reporting, (direct labor, including labor category, level of effort, and rate; direct materials, including itemized equipment; travel and transportation, including projected trips and number of people traveling; subcontracts/subgrants, with similar detail, if known; and overhead) and costs the applicant proposes to contribute or obtain from other sources in support of the projects in the plan.

2. All applications shall include a plan detailing projects to increase enforcement and public information/education targeting youth populations to reduce the number and rate of fatalities within this population. The plan must provide the following information:

a. An Introduction section with a brief general description of the population density, any unique population characteristics, and the most current year's data for the following information:

• Motor vehicle fatalities and injuries for the target community of youth,

• The incidence of alcohol use, seat belt non-use and speeding in motor vehicle crashes,

• Citation data for non-use of seat belts, zero tolerance laws, speeding, underage drinking and impaired driving. Providing the data broken down by age, so that youth can be a focus, is preferred.

b. A Discussion section that presents the principal goals and objectives of the proposed plan and articulates the potential to reduce speeding, impaired driving and an increase in seat belt use rates within a youth population, with supporting rationale. This section must also identify any proposed partnerships, coalitions, or leveraging of resources that will be employed as a means to implement a comprehensive enforcement and public information/education activities. Letters of support of community partners such as citizen activists, educators, business owners, the judicial branch of government, public health personnel, and other public and private sector partners should be included. Documentation of existing public and/or political support must be included (e.g. endorsement of applicable law enforcement agencies, State Association of Chiefs of Police, Community Medical Society, etc). In addition, a letter demonstrating support and coordination of state plans must be provided by the State Highway Safety Office. Any known barriers to implementation of the applicant's plan should be identified, with a discussion of how such barriers will be overcome.

c. A Project Description section, with a detailed description of the activities to be implemented by the applicant under the plan, including, for each activity:

(1) The key strategies to be employed to achieve a significant increase in belt use and decrease in speeding and impaired driving;

(2) The features (e.g. new participants, expanded efforts, unique resources, design or technological innovations, reductions in cost or time, integration with existing community efforts, extraordinary community involvement); and

(3) A work plan listing milestones, in chronological order, to show the schedule of expected accomplishments and their target dates.

For example, in a work plan based on a comprehensive program with community-wide participation, the applicant should provide the following information:

• The number of law enforcement agencies that are expected to participate. Favorable consideration will be given to an applicant that can demonstrate full support and participation from law enforcement,

• The kinds of law enforcement activities and strategies that will take place (e.g., checkpoints, saturation patrols, foot patrols at selected intersections, etc.),

• The number of officers that will participate,

• The percentage of these contacts with teens, on average, that are expected to result in a citation for a seat belt or impaired driving/speeding violation,

• The full extent that other community partners will be involved,

• Efforts to reduce underage drinking,

• Demonstration of coordination with prosecutors and judges processing juvenile cases.

d. A Personnel section, which identifies the proposed program manager, key personnel and other proposed personnel considered critical to the successful accomplishment of the activities under the applicant's plan. A brief description of their qualifications and respective responsibilities shall be included. The proposed level of their effort and contributions to the various activities in the plan shall also be identified. Each organization, corporation, or consultant who will work on the project shall be identified, along with a short description of the nature of the effort or contribution and relevant experience.

e. An Evaluation section, with a description of how the applicant will evaluate and measure the outcomes of the activities in its project plan. It is critically important that the programs funded as a result of this announcement be carefully evaluated so that others may learn the relative strengths and weaknesses of the strategies and approaches undertaken and what effects they have on seat belt use rates, and the incidence of impaired driving, underage drinking and speeding. The evaluation section shall describe the methods for assessing actual results achieved under the plan. Outcomes can be documented in a number of ways. Increases in observed seat belt use and reductions in motor vehicle crash fatalities and injuries provide the ultimate measure of success. However, intermediate measures, like changes in enforcement policies and procedures, as well as increases in citations for underage drinking, impaired driving, speeding and non-seat belt use may be utilized to measure progress. Favorable consideration will be given to applications that can demonstrate a pre-implementation measurement system through which a baseline can be determined, and following program implementation, a quantitative evaluation of effects can be ascertained.

In particular, the application should describe how it intends to assess the effectiveness of its project with respect to:

• Seat belt use rates,

• Level of actual citations and other enforcement activities,

• Activity to generate support for enforcement,

• Reducing the incidence of speeding among teens,

• Reducing the incidence of impaired driving among teens,

• Increase public awareness of other enforcement efforts,

• Public support for teen traffic safety enforcement,

• Encouraging specific enforcement-related media efforts,

• Increasing the awareness of the dangers of impaired driving, speeding and not buckling up,

• Impact on youth offenses/citations adjudicated by the court system.

Applications will be evaluated based on criteria that will be distributed when applications are requested. However, the criteria will be very similar to those used to evaluate the pre-applications.

Terms and Conditions of the Award

1. Prior to award, each grantee must comply with the certification requirements of 49 CFR Part 20, Department of Transportation New Restrictions on Lobbying, and 49 CFR Part 29, Department of Transportation Government-wide Debarment and Suspension (Non-procurement) and Government-wide Requirements for Drug Free Workplace (Grants).

2. Reporting Requirements and Deliverables:

a. Quarterly Progress Reports should include a summary of the previous quarter's activities and accomplishments, significant problems encountered or anticipated, a brief itemization of expenditures made during the quarter, and proposed activities for the upcoming quarter. Press clips and highlights from activities should be included in each quarterly report. Any decisions and actions required in the upcoming quarter should also be in the report.

b. Draft Final Report: The grantee shall prepare a draft Final Report that includes a complete description of the overall project implementation, including a project time-line; the activities conducted, including partners; data collection efforts; evaluation methodology; and findings from the program evaluation. In terms of information transfer, it is important to know what worked and what did not work, under what circumstances, and what can be done to avoid potential problems in future projects. The report should provide information that will be helpful in assembling a “Best Practices” guide for use by other communities. The grantee shall submit the draft Final Report to the COTR 60 days prior to the end of the performance period. The COTR will review the draft report and provide comments to the grantee within 30 days of receipt of the document.

c. Final Report: The grantee shall revise the draft Final Report to reflect the COTR's comments. The revised final report shall be delivered to the COTR 15 days before the end of the performance period. For the final report, the Grantee shall supply the COTR:

—A camera ready version of the document as printed.

—A copy, on appropriate media (diskette, Syquest disk, etc.), of the document in the original program format that was used for the printing process.

Note: Some documents require several different original program languages (e.g., PageMaker was the program format for the general layout and design and Power Point was used for charts and yet another was used for photographs, etc.). Each of these component parts should be available on disk, properly labeled with the program format and the file names. For example, Power Point files should be clearly identified by both a descriptive name and file name (e.g., 1994 Fatalities—chart1.ppt).

—A complete version of the assembled document in portable document format (PDF) for placement of the report on the world wide web (WWW). This will be a file usually created with the Adobe Exchange program of the complete assembled document in the PDF format that will actually be placed on the WWW. The document would be completely assembled with all colors, charts, side bars, photographs, and graphics. This can be delivered to NHTSA on a standard 1.44 diskette (for small documents) or on any appropriate archival media (for large documents) such as a CD ROM, TR-1 Mini cartridge, Syquest disk, etc.

—Four additional hard copies of the final document.

d. The Grantee will be expected to provide a presentation of the program results in Washington, DC.

3. During the effective performance period of grants awarded as a result of this announcement, the grant shall be subject to the National Highway Traffic Safety Administration's General Provisions for Assistance Agreements, dated July 1995.

Issued on: May 31, 2001.
Marilena Amoni,
Acting Associate Administrator for Traffic Safety Programs.

[FR Doc. 01-14173 Filed 6-5-01; 8:45 am]

BILLING CODE 4910-59-P